DEPARTMENT OF COMMERCE

National Oceanic and Atmospheric Administration

[RTID 0648-XF015]

Threatened Species; Take of Anadromous Fish

AGENCY: National Marine Fisheries Service (NMFS), National Oceanic and Atmospheric Administration (NOAA), Commerce.

ACTION: Notice; receipt of Incidental Take Permit application and Habitat Conservation Plan; availability of a draft environmental assessment; request for comments.

SUMMARY: Notice is hereby given that NMFS and United States Fish and Wildlife Service (USFWS) received an Incidental Take Permit application for the Pierce County Planning and Public Works (Pierce County or applicant) Habitat Conservation Plan (HCP). The HCP has been submitted pursuant to the Endangered Species Act (ESA) of 1973, as amended. NMFS has also prepared a draft environmental assessment (EA) under the National Environmental Policy Act (NEPA) describing the potential effects of NMFS' and USFWS' proposed issuance of the permit associated with the submitted HCP. NMFS is furnishing this notice in order to allow other agencies and the public an opportunity to review and comment on these documents. All comments and other information received will become part of the public record and will be available for review.

DATES: Comments or requests for a public hearing on the application must be received at the appropriate address (see ADDRESSES) no later than 5 p.m. Pacific Standard Time on August 22, 2025.

ADDRESSES: Written comments on the submitted HCP and/or the draft EA should be addressed to the NMFS South Coast Washington Branch Supervisor, NOAA Fisheries West Coast Region, 1009 College St. Southeast, Suite 210, Lacey, WA 98503. Comments may also be submitted via email to PierceCountyHCP@noaa.gov with the subject line of the email the following identifier: Comments on Pierce County HCP. Please specify whether the comments provided are associated with the HCP or the draft EA. When commenting, please refer to the specific page number and the subject of your comment. The documents are available on the internet at: https://www.fisheries.noaa.gov/action/pierce-county-and-public-works-flood-risk-reduction-structures-maintenance-and-operations.

FOR FURTHER INFORMATION CONTACT: Irma Lagomarsino, NMFS, telephone (503) 231-6718 or email at Irma.lagomarsino@noaa.gov.

SUPPLEMENTARY INFORMATION:

Species Covered in the HCP

Species Under NMFS Jurisdiction

Threatened species include Chinook Salmon (Oncorhynchus tshawytscha) Evolutionary Significant Unit (ESU) (Puget Sound ESU) and Steelhead (O. mykiss) distinct population segment (DPS) (Puget Sound DPS). The unlisted species is Coho salmon (O. kisutch) Evolutionary Significant Unit (ESU): (Puget Sound/Strait of Georgia ESU).

Species Under USFWS Jurisdiction

The threatened species is Bull trout (Salvelinus confluentus), distinct population segment (DPS) (Coastal Recovery Unit). Unlisted species include Pacific lamprey (Entosphenus tridentatus), distinct population segment, River lamprey (Lampetra ayresii) distinct population segment, and Western brook lamprey (L. richardsoni) distinct population segment.

Hereafter, these seven species are collectively referred to as the “covered species.”

Background

The USFWS and NMFS received incidental take permit (ITP) applications in November 2024 from Pierce County, in accordance with the requirements of the ESA (16 U.S.C. 1532 et seq.). Pierce County prepared an HCP in support of its applications and are seeking 30-year ITPs for incidental take of seven covered species, three of which fall under NMFS jurisdiction. The ITPs, if issued, would authorize take of the covered species that may occur incidental to the maintenance and operations activities associated with Pierce County owned flood risk reduction structures in and along the Puyallup, White, and Nisqually Rivers in Pierce County, Washington. The HCP addresses potential impacts that will likely result from the taking of covered species and describes the steps the applicant will undertake to avoid, minimize, and mitigate such impacts. The HCP also describes alternatives considered by the applicant, monitoring protocols, funding assurances, and procedures to account for unforeseen or extraordinary circumstances.

NMFS prepared a draft EA in response to the ITP applications in accordance with the requirements of NEPA (42 U.S.C. 4321 et seq.). NMFS is the lead agency and USFWS is a cooperating agency for the action. We are making the HCP and EA available for public review and comment.

Authority

Section 9 of the ESA and Federal regulations prohibit the taking of a species listed as endangered or threatened. The ESA defines “take” to mean harass, harm, pursue, hunt, shoot, wound, kill, trap, capture, or collect, or to attempt to engage in any such conduct. NMFS may issue a permit, under limited circumstances, to take listed species incidental to, and not the purpose of, otherwise lawful activities. Section 10(a)(1)(B) of the ESA and implementing regulations provide for authorizing incidental take of listed species.

NEPA requires Federal agencies to conduct an environmental analysis of their proposed actions to determine if the actions may affect the human environment. Therefore, NMFS is seeking public input on the scope of the required NEPA analysis in the EA, including the range of reasonable alternatives and associated impacts of any alternatives.

This notice is provided pursuant to section 10(c) of the ESA. NMFS will evaluate the application, associated documents, and comments submitted to determine whether the application meets the requirements of section 10(a) of the ESA and Federal regulations. The final permit decision will not be made until after the end of the comment period. NMFS will publish notice of its final action in the Federal Register.

Dated: July 18, 2025.
Jennifer Quan,
Regional Administrator, West Coast Region, National Marine Fisheries Service.

[FR Doc. 2025-13833 Filed 7-22-25; 8:45 am]

BILLING CODE 3510-22-P